DEPARTMENT OF AGRICULTURE

Forest Service

Sixshooter Project, Boise National Forest, Valley County, Idaho

AGENCY: Forest Service, USDA.

ACTION: Notice of Intent to prepare an Environmental Impact Statement.

SUMMARY: The Emmett Ranger District of the Boise National Forest will prepare an environmental impact statement (EIS) for project in the Six Mile subswatershed, a tributary to the Middle Fork Payette River drainage. The project area is located about 70 road miles north of Boise, Idaho.

The Forest Service is seeking information and comments from Federal, State, tribal, and local agencies, as well as individuals and organizations who may be interested and/or affected by the proposed action. The agency invites written comments and suggestions on the issues related to the proposal and the area being analyzed. The information received will be used in preparing the draft and final EIS.

Proposed Action: Three objections have been identified for the project: (1) Reduce forest susceptibility to damaging insects and/or pests and to severe wildfire; (2) reduce management induced sediment in Six Mile and West Fork Creek by up to 9 percent over current levels; and (3) provide forest products (i.e., commercial timber) that support local sawmills, employment opportunities, and economies.

The proposal action would treat, with timber harvest, about 9,000 acres, through ground-based (2,300 acres), skyline/cable (4,500 acres), or helicopter (2,000 acres) yarding systems. The proposed action would employ a variety of silvicultural systems. Silvicultural prescriptions for the proposed action are clearcut with reserve (32 acres), commercial thinning (3,474 acres), and shelterwood (5,469 acres).

The existing transportation system would be improved to facilitate the harvest operation and reduce sedimentation. Changing the existing transportation system would require 16 miles of road relocation, 15 miles of new road construction, reconstruction of over 30 miles of existing road by adding drainage structures and additional hard surfacing, relocating Six Mile road (No. 670) and closing over 30 miles of existing roads. The proposed haul route would be up West Fork Creek (No. 600) road and Six Mile Creek (No. 670) road to the 662 road and then out the 417B road to Highway 55. Portions of the following roads would be closed: 600C (3.2 miles), portions of 621, (1.4 miles), and portions of 670A, (2.9 miles). Portions of the 670 road would be relocated (5.3 miles). This change in the road system targets those areas that contribute the greatest amount of sediment delivery to the watershed. The motorized access to the following roads would be maintained during the snow free season: West Fork Creek 600, Six Mile-Round Valley 670, and Middle Fork Payette Ridge 662.

Preliminary Issues: None have been identified at this time.

Possible Alternatives to the Proposed Action: The following alternative to the proposed action has been discussed thus far and will be considered in the draft environmental impact statement: a no action alternative.

Decisions to be made: The Boise National Forest Supervisor will decide the following: (1) Should roads be constructed and reconstructed and timber harvested within the Sixshooter project area at this time; and if so, where within the project area, and how many miles of road should be constructed and/or reconstructed; and (2) should other roads be relocated and/or closed to meet watershed restoration objectives.

Public Involvement and Comments: Written comments concerning the proposed project should be postmarked within 30 days from the day after publication of this announcement in the Federal Register.

Comments received in response to this solicitation, including the names and addresses of those who comment, will be considered part of the public record on this proposal and will be available to public inspection. Comments submitted anonymously will be accepted and considered; however, those who submit anonymous comments will not have standing to appeal the subsequent decision under 36 CFR 215 or 217. Additionally, pursuant to 7 CFR 1.27(d), any person may request the agency to withhold a submission from the public record by showing how the Freedom of Information Act (FOIA) permits such confidentiality. Persons requesting such confidentiality should be aware that, under FOIA, confidentiality might be granted in only limited circumstances, such as to protect trade secrets. The Forest Service will inform the requester of the agency's decision regarding the request for confidentiality, and where the request is denied, the agency will return the submission and notify the requester the comments may be resubmitted with or without name and address within 10 days.

ADDRESSES: Comments should be addressed to Morris Huffman, District Ranger, Emmett Ranger District, 1805 Highway 16, Emmett, ID 83617.

FOR FURTHER INFORMATION CONTACT: Jeffery Clark, Project Team Leader, at the address above or by telephone at 208-365-7000.

Schedule: The draft EIS is anticipated to be available for public review and comment in November 2000; the final EIS is anticipated to be available in the spring of 2001.

SUPPLEMENTARY INFORMATION: The comment period on the draft EIS will be 45 days from the date the Environmental Protection Agency publishes the notice of availability in the Federal Register.

The Forest Service believes, at this early stage, it is important to giver reviewers notice of several court rulings related to public participation in the environmental review process. First, reviewers of the draft EIS must structure their participation in the environmental review of the proposal so it is meaningful and alerts an agency to the reviewer's position and contentions, (Vermont Yankee Nuclear Corp. v. NRDC, 435 U.S. 519, 533 (1978)). Also, environmental objections that could be raised at the draft EIS stage but that are not raised until after completion of the final EIS may be waived or dismissed by the courts, (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft EIS should be specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Responsible Official: David D. Rittenhouse, Forest Supervisor, Boise National Forest is the responsible official, 1249 South Vinnell Way, Suite 200, Boise, Idaho 83709.

Dated: July 21, 2000.
David D. Rittenhouse,
Forest Supervisor.

[FR Doc. 00-19075 Filed 7-27-00; 8:45 am]

BILLING CODE 3410-11-M